ENVIRONMENTAL PROTECTION AGENCY

[EPA-HQ-OARM-2014-0058 FRL 9907-43-OARM]

Agency Information Collection Activities; Proposed Collection; Comment Request; Contractor Conflicts of Interest

AGENCY: Environmental Protection Agency.

ACTION: Notice.

SUMMARY: The Environmental Protection Agency is planning to submit an information collection request (ICR), Contractor Conflicts of Interest; EPA ICR No. 1550.10, OMB Control No. 2030-0023 to the Office of Management and Budget (OMB) for review and approval in accordance with the Paperwork Reduction Act (44 U.S.C. 3501 et seq.). Before doing so, EPA is soliciting public comments on specific aspects of the proposed information collection as described below. This is a “proposed extension of the ICR, which is currently approved through August 31, 2014. An agency may not conduct or sponsor and a person is not required to respond to a collection of information unless it displays a currently valid OMB control number.

DATES: Comments must be submitted on or before May 2, 2014.

ADDRESSES: Submit your comments, identified by Docket ID No. EPA-HQ-OARM-2014-0058, online using www.regulations.gov (our preferred method), by email to Humphries.daniel@epa.gov or by mail to: EPA Docket Center, Environmental Protection Agency, Mail Code 28221T, 1200 Pennsylvania Ave. NW., Washington, DC 20460. EPA's policy is that all comments received will be included in the public docket without change including any personal information provided, unless the comment includes profanity, threats, information claimed to be Confidential Business Information (CBI) or other information whose disclosure is restricted by statute.

FOR FURTHER INFORMATION CONTACT: Daniel Humphries, Policy, Training, and Oversight Division, Acquisition Policy and Training Service Center (3802R), Environmental Protection Agency, 1200 Pennsylvania Avenue NW, Washington DC 20460; telephone number: 202-564-4377; fax number 202-565-2553; email address: humphries.daniel@epa.gov.

SUPPLEMENTARY INFORMATION: Supporting documents which explain in detail the information that the EPA will be collecting are available in the public docket for this ICR. The docket can be viewed online at www.regulations.gov or in person at the EPA Docket Center, WJC West, Room 3334, 1301 Constitution Ave., NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA contractors will be required to disclose business relationships and corporate affiliations to determine whether EPA's interests are jeopardized by such relationships. Because EPA has the dual responsibility of cleanup and enforcement and because its contractors are often involved in both activities, it is imperative that contractors are free from conflicts of interest so as not to prejudice response and enforcement actions. Contractors will be required to maintain a database of business relationships and report information to EPA on either an annual basis or when each work order is issued.

ICR numbers: EPA ICR No. 1550.10, OMB Control No. 2030-0023.

Respondents/affected entities: Entities potentially affected by this action are businesses or organizations performing contracts for the EPA.

Respondent's obligation to respond: Mandatory to continue performance on the respective contract, in accordance with respective contract clause terms.

Estimated number of respondents: 135 (total).

Frequency: 1,138 hours per response

Total estimated burden: 153,626 hours (per year). Burden is defined at 5 CFR 1320.03(b)

Total estimated cost: Estimated total annual costs are $10,978,201.08. This includes an estimated contractor burden cost of $9,858,202.20 and an estimated agency burden cost of $1,119,998.88. These amounts were calculated using the hours above and the labor rates from the 2009 Bureau of Labor National Mean Statistics and the General Schedule.

Changes in Estimates: The Agency does not anticipate a change in the hours in the total estimated respondent burden compared with that identified in the ICR currently approved by OMB. Further, for the current ICR renewal, EPA estimates no incurred capital/start-up costs as it is not necessary for respondents to acquire any capital goods to provide the requested information.

Dated: February 25, 2014.
John R. Bashista,
Director, Office of Acquisition Management.

[FR Doc. 2014-04616 Filed 2-28-14; 8:45 am]

BILLING CODE 6560-50-P